DEPARTMENT OF JUSTICE

Notice of Lodging of Proposed Consent Decree Under the Comprehensive Environmental Response, Compensation, and Liability Act

On December 6, 2023, the Department of Justice lodged a proposed consent decree with the United States District Court for the District of New Jersey in United States v. Wyeth Holdings LLC, 2:23-cv-22922 (D.N.J.).

The United States filed a complaint under the Comprehensive Environmental Response, Compensation, and Liability Act against Wyeth Holdings LLC, for recovery of damages for injury to, loss of, or destruction of natural resources resulting from the release of hazardous substances at or from the American Cyanamid Superfund Site (the “Site”) in Bridgewater Township, Somerset County, New Jersey. Specifically, the United States alleges releases of hazardous substances caused injury to floodplains, riparian areas, and wetlands adjacent to the Site and the biota supported by these habitats, including macroinvertebrates, amphibians, reptiles, birds, and mammals. These natural resources are under the trusteeship of the United States Department of the Interior (DOI), through the United States Fish and Wildlife Service (FWS), the National Oceanic and Atmospheric Administration (NOAA), and New Jersey Department of Environmental Protection (NJDEP).

The proposed Consent Decree is among the United States, NJDEP, and Wyeth Holdings LLC. Under the proposed Consent Decree, Wyeth Holdings LLC, will undertake and fund the “Duke Farms Forested Floodplain Restoration Project,” which will restore 112 areas of former farmland located upstream of the Site on the Raritan River to a natural habitat. Wyeth will also pay the DOI, NOAA, and NJDEP's assessment and oversight costs.

The publication of this notice opens a period for public comment on the Consent Decree. Comments should be addressed to the Assistant Attorney General, Environment and Natural Resources Division, United States Department of Justice, and should refer to United States and New Jersey Department of Environmental Protection v. Wyeth Holdings LLC, D.J. Ref. No. 90-11-3-07250/4. All comments must be submitted no later than sixty (60) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed consent decree may be examined and downloaded at this Justice Department website: https://www.justice.gov/enrd/consent-decrees. We will provide a paper copy of the proposed consent decree upon email request to pubcomment-ees.enrd@usdoj.gov.

Henry S. Friedman,
Assistant Section Chief, Environmental Enforcement Section, Environment and Natural Resources Division.

[FR Doc. 2023-27251 Filed 12-12-23; 8:45 am]

BILLING CODE 4410-15-P